DEPARTMENT OF THE INTERIOR

Fish and Wildlife Service

Notice of Receipt of Applications for Permit

Endangered Species

Applicant: National Zoological Park, Washington, DC, PRT-007870

The applicant requests a permit to import one male and one female captive-born giant panda (Ailuropoda melanoleuca) from Wolong, China for the purpose of scientific research and enhancement of the survival and propagation of the species. This application was published for public comment on Thursday August 17, 2000. Comments were accepted until on September 18, 2000. We are re-opening the comment period for 30-days to allow the public an opportunity to review and comment on information received from the Zoo on September 18, 2000.

Written data or comments should be submitted to the Director, U.S. Fish and Wildlife Service, Division of Management Authority, 4401 North Fairfax Drive, Room 700, Arlington, Virginia 22203 and must be received by the Director within 30 days of the date of this publication.

Documents and other information submitted with these applications are available for review, subject to the requirements of the Privacy Act and Freedom of Information Act, by any party who submits a written request for a copy of such documents to the following office within 30 days of the date of publication of this notice: U.S. Fish and Wildlife Service, Office of Management Authority, 4401 North Fairfax Drive, Room 700, Arlington, Virginia 22203. Phone: (703/358-2104); FAX: (703/358-2281).

Dated: September 22, 2000.
Charlie Chandler,
Chief, Branch of Permits, Division of Management Authority.

[FR Doc. 00-24907 Filed 9-26-00; 8:45 am]

BILLING CODE 4310-55-P